DEPARTMENT OF DEFENSE

Office of the Secretary

Federal Advisory Committee; Reserve Forces Policy Board (RFPB)

AGENCY: Department of Defense (DoD).

ACTION: Notice of advisory committee meeting.

SUMMARY: Pursuant to the Federal Advisory Committee Act of 1972 (5 U.S.C., Appendix, as amended), the Sunshine in the Government Act of 1976 (5 U.S.C. 552b, as amended), and 41 CFR 102-3.150, the Department of Defense announces that the Reserve Forces Policy Board (RFPB) will meet on July 28 and 29, 2010, in Washington, DC:

DATES: The meeting will be held on July 28 (from 8:30 a.m. to 4:45 p.m.) and on July 29, 2010 (from 8:30 a.m. to 3:15 p.m.).

ADDRESSES: The meeting will be held in Room 3E863, Pentagon, Arlington, VA.

FOR FURTHER INFORMATION CONTACT: Col. Marjorie Davis, Designated Federal Officer, (703) 697-4486 (Voice), (703) 614-0504 (Facsimile), RFPB@osd.mil.

The Board's mailing address is: Reserve Forces Policy Board, 7300 Defense Pentagon, Washington, DC 20301-7300.

SUPPLEMENTARY INFORMATION:

Purpose of the Meeting

An open meeting of the Reserve Forces Policy Board.

Agenda

Consider reserve forces' health care issues and the long range implications of a generation of young veterans.

Meeting Accessibility

Pursuant to 5 U.S.C. 552b, as amended, and 41 CFR 102-3.140 through 102-3.165, and the availability of space, this meeting is open to the public. To request a seat, contact the Designated Federal Officer not later than July 15, 2010, at 703-697-4486, or by e-mail at RFPB@osd.mil.

Written Statements

Pursuant to 41 CFR 102-3.105(j) and 102-3.140, the public or interested organizations may submit written statements to the membership of the Reserve Forces Policy Board at any time or in response to the stated agenda of a planned meeting. Written statements should be submitted to the Reserve Forces Policy Board's Designated Federal Officer (see FOR FURTHER INFORMATION CONTACT). The Designated Federal Officer's contact information can be obtained from the GSA's FACA Database— https://www.fido.gov/facadatabase/public.asp.

Written statements that do not pertain to a scheduled meeting of the Reserve Forces Policy Board may be submitted at any time. However, if individual comments pertain to a specific topic being discussed at a planned meeting then these statements must be submitted no later than five business days prior to the meeting in question. The Designated Federal Officer will review all submitted written statements and provide copies to all of the committee members.

Dated: June 23, 2010.
Mitchell S. Bryman,
Alternate OSD Federal Register Liaison Officer, Department of Defense.

[FR Doc. 2010-15625 Filed 6-25-10; 8:45 am]

BILLING CODE 5001-06-P